DEPARTMENT OF DEFENSE

Office of the Secretary

[Docket ID: DoD-2015-HA-0012]

Privacy Act of 1974; System of Records

AGENCY: Defense Health Agency, DoD.

ACTION: Notice to alter a System of Records.

SUMMARY: The Defense Health Agency is proposing to alter an existing system of records, EDHA 23, entitled “Pharmacy Data Transaction Service (PDTS)”, in its inventory of record systems subject to the Privacy Act of 1974, as amended. This system is used to establish a central repository for coordinating benefits pertaining to prescriptions dispensed and/or filled at military treatment facilities, via TRICARE mail-order, the TRICARE retail pharmacy network, and privately owned pharmacies.

DATES: Comments will be accepted on or before March 6, 2015. This proposed action will be effective the date following the end of the comment period unless comments are received which result in a contrary determination.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Linda S. Thomas, Chief, Defense Health Agency Privacy and Civil Liberties Office, 7700 Arlington Boulevard, Suite 5101, Falls Church, VA 22042-5101, or by phone at (703) 681-7500.

SUPPLEMENTARY INFORMATION: The Defense Health Agency notices for systems of records subject to the Privacy Act of 1974 (5 U.S.C. 552a), as amended, have been published in the Federal Register and are available from the address in FOR FURTHER INFORMATION CONTACT or at the Defense Privacy and Civil Liberties Division Web site at http://dpcld.defense.gov/. The proposed system report, as required by 5 U.S.C. 552a(r) of the Privacy Act of 1974, as amended, was submitted on January 7, 2015, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: January 30, 2015.
Aaron Siegel,
Alternate OSD Federal Register Liaison Officer, Department of Defense.

EDHA 23

System name:

Pharmacy Data Transaction Service (PDTS) (November 18, 2013, 78 FR 69076)

Changes

* * * * *

Categories of individuals covered by the system:

Delete entry and replace with “Members of the Uniformed Services (and their dependents), retired military members (and their dependents), contractors participating in military deployments or related operations, DoD civilian employees including non-appropriated fund employees, and other individuals who receive or have received drug prescriptions dispensed and/or filled at military treatment facilities, via TRICARE mail-order, the TRICARE retail pharmacy network, and commercial pharmacies.”

Categories of records in the system:

Delete entry and replace with “Electronic data extracted from an individual's pharmacy and prescription records.

Patient Data: Name, Social Security Number (SSN) and/or DoD Identification (ID) Number (or foreign ID number), visit date, date of birth, mailing address, home telephone number, family member prefix (if appropriate) or dependent suffix, gender, and relationship to policy holder.

Sponsor Data: Name, SSN and/or DoD ID Number, date of birth, gender, insurance policy holder name, and data on Health Care Delivery Program Plan coverage.

Other Data: Prescription data elements for dispensing: National Drug Code (NDC), quantity prescribed, days supply, number of refills authorized, prescribing physician's National Provider Index (NPI) or Drug Enforcement Administration (DEA) number.

ePrescribing: NDC, quantity prescribed, days supply, number of refills authorized, prescribing physician's NPI or DEA number, text drug name, directions for use/administration, prescribing physician (name, practice name, address, phone).”

Authority for maintenance of the system:

Delete entry and replace with “10 U.S.C. Chapter 55, Medical and Dental Care; 32 CFR part 199, Civilian Health and Medical Program of the Uniformed Services (CHAMPUS); DoD Instruction 6015.23, Delivery of Healthcare at Military Treatment Facilities: Foreign Service Care; Third Party Collection; Beneficiary Counseling and Assistance Coordinators (BCACs); and E.O. 9397 (SSN), as amended.”

Purpose(s):

Delete entry and replace with “To establish a central repository for coordinating benefits pertaining to prescriptions dispensed and/or filled at military treatment facilities, via TRICARE mail-order, the TRICARE retail pharmacy network, and privately owned pharmacies.

To improve efficiency and patient safety by reducing the likelihood of drug adverse reactions and abuse involving prescription medications and to discourage prescription shopping.

To provide data necessary to conduct Prospective Drug Utilization Review on inbound dispensing transactions and return alerts when encountering drug/drug interactions, therapeutic duplication, or other clinical circumstances as defined by system requirements.

To provide a data warehouse component to support operational, clinical, and economic studies of TRICARE prescription activity.

Information may also be used as a management tool for statistical analysis, tracking, reporting, evaluating program effectiveness, and conducting research.”

Routine uses of records maintained in the system, including categories of users and the purposes of such uses:

Delete entry and replace with “In addition to those disclosures generally permitted under 5 U.S.C. 552a(b) of the Privacy Act of 1974, as amended, these records may specifically be disclosed outside the DoD as a routine use pursuant to 5 U.S.C. 552a(b)(3) as follows:

To the Centers for Medicare and Medicaid Services and to the Department of Veterans Affairs for coordination of benefits.

The DoD Blanket Routine Uses may apply to this system.

Note 1: This system of records contains individually identifiable health information. The DoD Health Information Privacy Regulation (DoD 6025.18-R), or any successor DoD issuances issued pursuant to the Health Insurance Portability and Accountability Act of 1996 (HIPAA) and 45 CFR parts 160 and 164, Health and Human Services, General Administrative Requirements and Security & Privacy, respectively, applies to most such health information. DoD 6025.18-R or a successor issuance may place additional procedural requirements on the uses and disclosures of such information beyond those found in the Privacy Act of 1974, as amended, or mentioned in this system of records notice.

Note 2: Except as provided under 42 U.S.C. 290dd-2, records of identity, diagnosis, prognosis or treatment information of any patient maintained in connection with the performance of any program or activity relating to substance abuse education, prevention, training, treatment, rehabilitation, or research which is conducted, regulated, or directly or indirectly assisted by any department or agency of the United States, will be treated as confidential and disclosed only for the purposes and under the circumstances expressly authorized under 42 U.S.C. 290dd-2.”

* * * * *

Retrievability:

Delete entry and replace with “Records are retrieved by patient's name, SSN and/or DoD ID Number, date of birth, family member prefix or dependent suffix; or sponsor's name, SSN and/or DoD ID Number.”

Safeguards:

Delete entry and replace with “Records are maintained in a controlled area accessible only to authorized personnel. Entry is further restricted to personnel with a valid requirement and authorization. Physical entry is restricted by the use of locks, passwords, and administrative procedures which are changed periodically.

This system collects and distributes records on a system-to-system basis that does not require end-user direct interaction. In the rare instances when a record must be retrieved, it is by a qualified individual. Access to personally identifiable information in this system of records is restricted to those who require the data in the performance of their official duties, and have received proper training relative to the Privacy Act of 1974, as amended, the HIPAA privacy and security regulations, and DoD Information Assurance Regulations.

Auditing: Audit trail records from all available sources are enabled and available for review at all times for indications of inappropriate or unusual activity. Suspected violations of information assurance policies are analyzed and reported in accordance with DoD and Military Health System/Defense Health Agency specific information system information assurance procedures.”

Retention and disposal:

Delete entry and replace with “Destroy or delete when 2 years old, or 2 years after the date of the latest entry, whichever is applicable.”

System manager(s) and address:

Delete entry and replace with “Branch Chief, Pharmacy Informatics Branch, Defense Health Agency, Pharmacy Operations Division, 7700 Arlington Boulevard, Falls Church, VA 22042-5101.”

Notification procedure:

Delete entry and replace with “Individuals seeking to determine whether information about themselves is contained in this system should address written inquiries to the Chief, Freedom of Information Act (FOIA) Service Center, Defense Health Agency Privacy and Civil Liberties Office, 7700 Arlington Boulevard, Suite 5101, Falls Church, VA 22042-5101.

Requests should contain the name and number of this system of records notice, the individual's full name, current address, telephone number, signature, and treatment facility(ies) that have provided care.

If requesting information about a minor or legally incompetent person, the request must be made by the custodial parent, legal guardian, or party acting in loco parentis of such individual. Written proof of that status may be required before the existence of any information will be confirmed.”

Record access procedures:

Delete entry and replace with “Individuals seeking access to records about themselves contained in this system of records should address written inquiries to the Chief, FOIA Service Center, Defense Health Agency Privacy and Civil Liberties Office, 7700 Arlington Boulevard, Suite 5101, Falls Church, VA 22042-5101.

Requests should contain the name and number of this system of records notice, the individual's full name, current address, telephone number, signature, and treatment facility(ies) that have provided care.

If requesting records about a minor or legally incompetent person, the request must be made by the custodial parent, legal guardian, or party acting in loco parentis of such individual. Written proof of that status may be required before any records will be provided.”

Contesting record procedures:

Delete entry and replace with “The Office of the Secretary of Defense (OSD) rules for accessing records, for contesting contents and appealing initial agency determinations are published in OSD Administrative Instruction 81; 32 CFR part 311, or may be obtained from the system manager.”

Record source categories:

Delete entry and replace with “Information is obtained from military treatment facilities, commercial healthcare providers under contract to the Military Health System, the Defense Enrollment Eligibility Reporting System, commercial pharmacies, civilian physicians, and the Department of Veterans Affairs.”

* * * * *

[FR Doc. 2015-02174 Filed 2-3-15; 8:45 am]

BILLING CODE 5001-06-P